DEPARTMENT OF THE INTERIOR

National Park Service

Notice of Availability of a Draft Environmental Impact Statement for the Fort King Special Resource Study

SUMMARY: Pursuant to Section 102(2)(c) of the National Environmental Policy Act of 1969, the National Park Service (NPS) announces the availability of a Draft Environmental Impact Statement (DEIS) for the Fort King Special Resource Study. The document describes ways that the NPS may assist in preserving the Fort King site by outlining four management alternatives for consideration by Congress, including a no-action alternative. The DEIS analyzes the environmental impacts of those alternatives considered for the future protection, interpretation, and management of the site's cultural resources. The 37-acre study area is located in the city of Ocala, Marion County, Florida.

DATES: There will be a 60-day comment period beginning with the Environmental Protection Agency's publication of its notice of availability in the Federal Register.

ADDRESSES: Copies of the DEIS are available by contacting Tim Bemisderfer, Planning and Compliance Division, Southeast Region, National Park Service, 100 Alabama Street, SW., 1924 Building, Atlanta, Georgia 30303. An electronic copy of the DEIS is available on the Internet at http://www.nps.gov/sero/planning.

FOR FURTHER INFORMATION CONTACT: Tim Bemisderfer, 404-562-3124, extension 693.

SUPPLEMENTARY INFORMATION: The NPS held a series of community and stakeholder meetings in 2002 and 2003 to gather advice and feedback on desired outcomes of the study. The meetings assisted the NPS in developing alternatives for managing associated cultural and natural resources and creating interpretive and educational programs. Responses from the meetings were incorporated into the four alternatives described in the study. Alternative A is the no-action alternative. For the purposes of this study, it is assumed that the Fort King site would continue to be owned and managed cooperatively by the city of Ocala, Marion County, and the Ocala Chapter of the Daughters of the American Revolution. The site would remain predominantly undeveloped, public access would be restricted, and the site's archaeological resources would be protected and preserved in an undisturbed condition. Under Alternative B, the site's archaeological resources would be preserved and interpreted in-situ. Alternative B, takes a conservative approach to site development that favors a simple and low cost implementation strategy. Under Alternative C, existing site infrastructure would be used as a base to quickly and efficiently provide public access and interpretive services. Alternative C favors a development strategy that builds upon a modest initial investment that can be expanded over time as additional funding and resources are secured.

Under Alternative D, Fort King would highlight the site's strong association with nationally significant historical events and interpretive themes. Alternative D takes an aggressive approach to site development. Its larger initial investment in cultural landscape rehabilitation and visitor service infrastructure is intended to quickly establish the name recognition and credibility necessary to attract higher profile partners and compete for private and public financing.

It is the practice of the NPS to make comments, including names and home addresses of respondents, available for public review during regular business hours. Anonymous comments will not be considered. We will make submissions from organizations or businesses, and from individuals identifying themselves as representatives or officials of organizations or businesses, available for public inspection in their entirety. However, individual respondents may request that we withhold their names and addresses from the public record, and we will honor such requests to the extent allowed by law. If you wish to withhold your name/address, you must state that request prominently at the beginning of your comment.

The responsible official for the DEIS is Patricia A. Hooks, Regional Director, Southeast Region, National Park Service, 100 Alabama Street, SW., 1924 Building, Atlanta, Georgia 30303.

Dated: October 11, 2005.
Patricia A. Hooks,
Regional Director, Southeast Region.

[FR Doc. 05-22946 Filed 11-18-05; 8:45 am]

BILLING CODE 4312-52-M